DEPARTMENT OF AGRICULTURE

Forest Service

Sequoia National Forest, California; Sequoia National Forest Plan Amendment, Giant Sequoia National Monument Draft Environmental Impact Statement, Comprehensive Management Plan

AGENCY: Forest Service, USDA.

ACTION: Notice of extension of public comment period.

DATES: Comments must be received no later than December 3, 2010.

SUMMARY: The Sequoia National Forest hereby gives notice that it is extending the public comment period for the Giant Sequoia National Monument Draft Environmental Impact Statement (Draft EIS) and Draft Management Plan, which was published in the Federal Register on August 6, 2010, (Volume 75, No. 151) originally for a 90-day comment period. Please see the Notice of Availability of the Draft EIS (75 FR 47592) for more detailed information related to the Giant Sequoia National Monument Draft EIS and Draft Management Plan. In response to requests for additional time, the Forest Service will extend the comment period from November 3, 2010, to December 3, 2010.

Federal, State, tribal, and local governments and other interested parties are requested to comment on the Draft EIS. Comments will be accepted by e-mail to comments-pacificsouthwest-sequoia@fs.fed.us, or http://gsnm-consult.limehouse.com/portal/ or by mail to Anne Thomas, Giant Sequoia National Monument, Sequoia National Forest, 1839 South Newcomb Street, Porterville, CA 93257, or by facsimile to 559-781-4744.

FOR FURTHER INFORMATION CONTACT: Anne Thomas at the address listed above or by telephone 559-784-1500.

Dated: October 27, 2010.
Barbara Johnston,
Acting Forest Supervisor, Sequoia National Forest.

[FR Doc. 2010-27599 Filed 11-2-10; 8:45 am]

BILLING CODE 3410-11-P